OFFICE OF PERSONNEL MANAGEMENT

Notice of Federal Long Term Care Insurance Program Open Season

AGENCY: Office of Personnel Management.

ACTION: Notice of Federal Long Term Care Insurance Open Season.

SUMMARY: The Office of Personnel Management (OPM) is announcing an Open Season for the Federal Long Term Care Insurance Program (FLTCIP). All eligible individuals who are not currently enrolled in FLTCIP may apply for coverage, including employees, annuitants, and other members of the Federal family. Active workforce members, their spouses, and same-sex domestic partners of civilian active workforce members will be subject to abbreviated underwriting. The addition of same-sex domestic partners of civilian active workforce members as a new type of qualified relative eligible to apply for FLTCIP coverage is pursuant to the President's Memorandum of June 17, 2009 on Federal Benefits and Non-Discrimination which requested that OPM, in consultation with the Department of Justice, extend certain benefits that can be provided to same-sex domestic partners of Federal employees consistent with Federal law. All other qualified relatives will be subject to the Program's standard requirements for full underwriting of applications.

DATES: The Open Season will run from April 4 through May 27, 2011.

FOR FURTHER INFORMATION CONTACT: For further information, please call 1-800-LTC-FEDS (1-800-582-3337) (TTY: 1-800-843-3557) or visit http://www.ltcfeds.com.

For purposes of this Federal Register notice, the contact at OPM is John Cutler, at john.cutler@opm.gov or (202) 606-0004.

SUPPLEMENTARY INFORMATION: The Long-Term Care Security Act (Pub. L. 106-265) permits OPM to provide for periodic opportunities for eligible individuals to apply for coverage in the FLTCIP. OPM has issued regulations (5 CFR Part 875, sections 402-404) which set forth procedures for FLTCIP open seasons. This notice is issued under section 875.402(b). Under that provision, OPM will specify beginning and ending dates, as well as the requirements for applicants during this period, in Federal Register Notices. OPM may provide for abbreviated underwriting requirements for specified eligible groups when OPM determines it is in the best interest of the FLTCIP.

Eligible Individuals: Active civilian workforce members and their spouses or same-sex domestic partners who are not currently enrolled in FLTCIP are eligible to apply during this Open Season with abbreviated underwriting. Active civilian workforce members include Federal civilian or U.S. Postal Service employees whose current position conveys eligibility for Federal Employees Health Benefits coverage, subject to the exceptions contained in section 875.201. Members of the uniformed services—those who are on active duty or full-time National Guard duty for more than a 30-day period or are active members of the selected reserve—and their spouses who are not currently enrolled in FLTCIP are eligible to apply during this Open Season with abbreviated underwriting. Non-enrolled annuitants as described in sections 875.202 and 875.203, retired members of the uniformed services as described in section 875.205, and qualified relatives other than spouses of active workforce members and same-sex domestic partners of active civilian workforce members can apply for coverage with a full underwriting application.

Underwriting requirements: Eligible applicants who are active workforce members, their spouses and same-sex domestic partners of active civilian workforce members, who are not currently enrolled in FLTCIP, are able to apply during the Open Season subject to the abbreviated underwriting standards in effect for the FLTCIP as of April 4, 2011. Eligible applicants other than active workforce members, their spouses, and same-sex domestic partners of active civilian workforce members, are subject to the full underwriting standards in effect for the FLTCIP as of April 4, 2011.

Billing age: Premiums are based on the enrollee's age upon receipt of his or her application by the program administrator, Long Term Care Partners, and the options selected.

Effective date: The effective date of coverage will be the first day of the month after an application is approved. However, in accordance with § 875.404(b)(2), workforce members who apply for coverage under abbreviated underwriting must be actively at work in order for coverage to become effective.

Authority: 5 U.S.C. 9008; 5 CFR 875.402.

U.S. Office of Personnel Management.
John Berry,
Director.

[FR Doc. 2011-1852 Filed 1-27-11; 8:45 am]

BILLING CODE 6325-63-P